DEPARTMENT OF ENERGY

Federal Energy Regulatory Commission

[Docket No. RA15-1-000]

Vaughn Thermal Corporation; Notice of Filing

Take notice that, on May 11, 2015, Vaughn Thermal Corporation (Vaughn) filed a Petition for Review of Denial of Adjustment Request, pursuant to section 504(b) of the Department of Energy Organization Act, 42 U.S.C. 7194(b), and section 385.1004 of the Commission's regulations, 18 CFR 385.1004. Vaughn's petition requests review of the April 9, 2015 Decision and Order issued in Case Number EXC-14-0003 by the Department of Energy's Office of Hearings and Appeals. In addition, Vaughn is concurrently requesting a hearing and expedited procedures in accord with section 385.1006 of the Commission's regulations, 18 CFR 385.1006.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for electronic review in the Commission's Public Reference Room in Washington, DC There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on June 8, 2015.

Dated: May 18, 2015.
Kimberly D. Bose,
Secretary.

[FR Doc. 2015-12598 Filed 5-22-15; 8:45 am]

BILLING CODE 6717-01-P